FEDERAL COMMUNICATIONS COMMISSION

Notice of Public Information Collection Being Reviewed by the Federal Communications Commission for Extension Under Delegated Authority, Comments Requested

March 22, 2010.

SUMMARY: The Federal Communications Commission, as part of its continuing effort to reduce paperwork burden invites the general public and other Federal agencies to take this opportunity to comment on the following information collection, as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid OMB control number. No person shall be subject to any penalty for failing to comply with a collection of information subject to the Paperwork Reduction Act (PRA) that does not display a currently valid OMB control number.

DATES: Persons wishing to comments on this information collection should submit comments on or before May 25, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov.

FOR FURTHER INFORMATION CONTACT: Judith B. Herman, Office of Managing Director, (202) 418-0214. For additional information about the information collection(s) send an e-mail to PRA@fcc.gov or contact Judith B. Herman, 202-418-0214.

SUPPLEMENTARY INFORMATION: OMB Control No: 3060-0355.

Title: Rate-of-Return Reports.

Form Nos.: FCC Forms 492 and 492-A.

Type of Review: Extension of a currently approved collection.

Respondents: Business or other for-profit.

Number of Respondents: 80 respondents; 80 responses.

Estimated Time Per Response: 8 hours.

Frequency of Response: Annual reporting and recordkeeping requirements.

Obligation to Respond: Mandatory. Statutory authority for this collection of information is contained in 47 U.S.C. sections 160, 161, 209(b), and 220.

Total Annual Burden: 640 hours.

Total Annual Cost: N/A.

Privacy Act Impact Assessment: N/A.

Nature and Extent of Confidentiality: The Commission does not require respondents to submit confidential materials. However, if the respondents wish to submit materials they believe is confidential, they may do so under 47 CFR 0.459 of the Commission's rules.

Need and Uses: The Commission will submit this expiring information collection to the Office of Management and Budget (OMB) after this 60 day comment period in order to obtain the full three year clearance from them. There is no change in the reporting and/or recordkeeping requirements. There is a 288 hour adjustment reduction which is due to fewer respondents (from 111 to 80 respondents) subject to the requirements.

FCC Form 492 is filed by each local exchange carrier (LEC) or groups of carriers who file individual access tariffs or who are not subject to Sections 61.41 through 61.49 of the Commission's rules. Each LEC, or group of affiliated carriers, subject to the previously stated sections, file FCC Form 492-A. This data provides the necessary detail to enable the Commission to fulfill its regulatory responsibilities.

In the April 24, 2008 Memorandum Opinion and Order (MO&O) (ARMIS Forbearance Order), the Commission granted conditional forbearance for all AT&T affiliates, including BellSouth affiliates, to file FCC Form 492 subject to Commission approval of AT&T's compliance plan, among other things. See Petition of AT&T Inc. For Forbearance Under 47 U.S.C. § 160 From Enforcement of the Commission's Cost Assignment Rules; Petition of BellSouth Telecommunications, Inc. For Forbearance Under 47 U.S.C. § 160 From Enforcement of Certain of the Commission's Cost Assignment Rules, WC Docket Nos. 07-21, 05-342, Memorandum Opinion and Order, 23 FCC Rcd 7302 (2008) (AT&T Cost Assignment Forbearance Order), pet. for recon. Pending, pet. for review pending, NASCUA v. FCC Case No. 08-1226 (D.C. Cir. Filed June 23, 2008).

On September 6, 2008, the Commission extended the same relief, subject to the same conditions, to Verizon and Qwest. See Service Quality, Customer Satisfaction, Infrastructure and Operating Data Gathering, WC Docket Nos. 08-190, 07-139, 07-204, 07-273, 07-21, Memorandum Opinion and Order and Notice of Proposed Rulemaking, 23 FCC Rcd 13647 (2008), (Verizon/Qwest cost Assignment Forbearance Order), pet. for recon. Petition for review pending, NASCUA v. FCC, Case No. 08-1226 (D.C. Cir. Filed June 23, 2008). The Commission also issued a Memorandum Opinion and Order granting forbearance for Qwest and Verizon from filing FCC Form 492, among other things, subject to Commission approval of Qwest's and Verizon's compliance plan. See Petition of Qwest for Forbearance From Enforcement of the Commission's ARMIS and 492-A Reporting Requirements Pursuant to 47 U.S.C. § 160(c) From Enforcement of Certain of the Commission's Recordkeeping and Reporting Requirements, WC Docket Nos. 07-204, 07-273, Memorandum Opinion and Order, FCC 08-271 (Dec. 12, 2008) (ARMIS Financial Reporting Forbearance Order).

On December 31, 2008, the Wireline Competition Bureau issued a Public Notice that found AT&T, Verizon and Qwest had satisfied the condition that they obtain Bureau approval of their compliance plan describing in detail how they will continue to fulfill its statutory and regulatory obligations.

Federal Communications Commission.
Bulah P. Wheeler,
Acting Associate Secretary,
Office of the Secretary,
Office of Managing Director.

[FR Doc. 2010-6753 Filed 3-25-10; 8:45 am]

BILLING CODE 6712-01-S